DEPARTMENT OF HOMELAND SECURITY

Coast Guard

33 CFR Part 100

[Docket Number USCG-2015-1108]

RIN 1625-AA08

Special Local Regulation, Daytona Beach Grand Prix of the Seas; Atlantic Ocean, Daytona Beach, FL

AGENCY: Coast Guard, DHS.

ACTION: Temporary final rule.

SUMMARY: The Coast Guard is establishing a special local regulation on the waters of the Atlantic Ocean east of Daytona Beach, Florida during the Daytona Beach Grand Prix of the Seas, a series of high-speed personal watercraft boat races. This action is necessary to provide for the safety of life on the navigable waters surrounding the event. This special local regulation will be enforced daily 8 a.m. to 5 p.m., from April 22 through April 24, 2016. This rulemaking prohibits persons and vessels from being in the regulated area unless authorized by the Captain of the Port (COTP) Jacksonville or a designated representative.

DATES: This rule is effective from April 22, 2016 through April 24, 2016 and will be enforced daily from 8 a.m. to 5 p.m.

ADDRESSES: To view documents mentioned in this preamble as being available in the docket, go to http://www.regulations.gov, type USCG-2015-1108 in the “SEARCH” box and click “SEARCH.” Click on Open Docket Folder on the line associated with this rule.

FOR FURTHER INFORMATION CONTACT: If you have questions about this rulemaking, call or email Lieutenant Allan Storm, Sector Jacksonville, Waterways Management Division, U.S. Coast Guard; telephone 904-714-7616, email Allan.H.Storm@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On December 7, 2015, Powerboat P1-USA, LLC notified the Coast Guard that it will conduct a series of high speed boat races in the Atlantic Ocean, offshore from Daytona Beach, FL from April 22 through 24, 2016. In response, on February 4, 2016, the Coast Guard published a notice of proposed rulemaking (NPRM) titled Special Local Regulation, Daytona Beach Grand Prix of the Seas; Daytona Beach, FL (81 FR 5967). There we stated why we issued the NPRM and invited comments on our proposed regulatory action related to this boat race. During the comment period that ended March 7, 2016, we received 3 comments.

Under good cause provisions in 5 U.S.C. 553(d)(3), we are making this rule effective less than 30 days after its publication in the Federal Register. The Coast Guard finds that good cause exists for making this rule effective starting April 22, 2016 because the public was notified of this event well in advance through a proposed rule to regulate waterway activities published on February 4, 2016 [81 FR 5967]. Designated representatives will be on scene to assist the public with compliance during the nine hours per day that the regulation will be enforced.

III. Legal Authority and Need for Rule

The Coast Guard is issuing this rule under authority in 33 U.S.C. 1233. The COTP Jacksonville determined that potential hazards associated with high speed boat races necessitate the establishment of a special local regulation. The purpose of this rulemaking is to ensure the safety of life on the navigable waters of the United States by prohibiting all vessels and persons not participating in the event from entering the regulated area.

IV. Discussion of Comments, Changes, and the Rule

As noted above, we received three comments on the NPRM published February 4, 2016. Two comments received were in support of the rule. The third comment received was opposed to the rule. The comment opposed to the rule disputed the following items: (1) The Coast Guard's position that this high speed boat race poses an extra hazard to the safety of life on the navigable waters surrounding the event, (2) the need to establish a special local regulation to mitigate the hazards associated with this event, (3) the need for Coast Guard presence to enforce the rule (due to monetary cost to taxpayers), and (4) the determination that this rule is not a “significant regulatory action.” In regard to significant regulatory action, the commenter stated that this rule “encroaches on rights of mariners to be in a public area.”

A marine event is defined as an organized event of limited duration on the navigable waters of the United States conducted according to a prearranged schedule which presents an extra or unusual hazard to the safety of human life that cannot be protected by existing navigation. Prior to taking any regulatory action and to considering the establishment of a special local regulation, the Coast Guard utilizes a risk-informed decision making process to determine if an event meets the definition of a marine event as outlined in 33 CFR 100.05 and is likely to introduce an extra or unusual hazard to the safety of human life. The primary risk factors for determining that this is a marine event included: (1) The expected involvement of an unusually large concentration of traffic on the water that may interfere with routine navigation and (2) the event includes an inherently hazardous competition where craft are expected to travel at high speeds. Once the Coast Guard made the marine event determination, we proposed a safety risk-mitigation tool. In this case, it is the establishment of a special local regulation. Based on an analysis of the factors addressed above, the commenter's position that this race is not a marine event justifying Coast Guard action is not supportable.

For the enforcement of this rule, the Coast Guard does not need to be on scene. As stated in the regulatory text at the end of this document, the COTP may utilize Federal, state, and local officers (designated representatives) for the enforcement of the regulated area.

A “significant regulation” under Executive Order 12866, is one that has an impact on the economy of more than $100 million or one that adversely affects in a material way the economy or a sector of the economy; creates a serious inconsistency or interferes with another agency; materially alters the budgetary impact of entitlements, grants, user fees, or loan programs, or the rights and obligations of recipients; or raises a novel issue of law or policy. For the reasons stated in section V.A below, the Coast Guard determines that this rule is not a significant regulatory action. It is one of a category of regulations considered “routine and frequent” by the Office of Management and Budget.

This rule establishes a special local regulation for the Daytona Beach Grand Prix of the Seas, a series of high-speed personal watercraft boat races. The regulated area includes the waters of the Atlantic Ocean offshore from Daytona Beach, Florida and will be enforced daily 8 a.m. to 5 p.m., from April 22 through April 24, 2016. Approximately 90 high-speed personal watercraft are anticipated to participate in the races. The regulated area would encompass an approximated offshore area that is 1,350 yards wide extending 600 yards south of the Daytona Beach pier to 1,900 yards north of the pier. No vessel or person will be permitted to enter the regulated area without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This rule has not been designated a “significant regulatory action,” under Executive Order 12866. Accordingly, it has not been reviewed by the Office of Management and Budget.

The Coast Guard has determined that this temporary final rule is not a significant regulatory action for the following reasons: (1) The special local regulation would be enforced for a total of only 27 hours over the course of three days; (2) although persons and vessels would not be able to enter, transit through, anchor in, or remain within the regulated area without authorization from the COTP Jacksonville or a designated representative, they would be able to operate in the surrounding area during the enforcement period; (3) persons and vessels would still be able to enter, transit through, anchor in, or remain within the regulated area if authorized by the COTP Jacksonville or a designated representative; and (4) the Coast Guard would provide advance notification of the special local regulation to the local maritime community via Broadcast Notice to Mariners or by on-scene designated representative.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the regulated area may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have determined that this action is one of a category of actions that do not individually or cumulatively have a significant effect on the human environment. This rule involves a special local regulation that would prohibit persons and vessels from transiting through a 2,500 yard by 1,350 yard regulated area during a three day racing event lasting nine hours daily. It is categorically excluded from further review under paragraphs 34(h) and 35(a) of Figure 2-1 of the Commandant Instruction. An environmental analysis checklist supporting this determination and a Categorical Exclusion Determination are available in the docket where indicated under ADDRESSES. We seek any comments or information that may lead to the discovery of a significant environmental impact from this rule.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233.

2. Add § 100.35T07-1108 to read as follows:

§ 100.35T07-1108 Special Local Regulation, Daytona Beach Grand Prix of the Seas; Atlantic Ocean, Daytona Beach, FL.

(a) Regulated area. The following regulated area is a special local regulation located offshore from Daytona Beach, FL. All waters of the Atlantic Ocean encompassed within the following points: Starting at Point 1 in position 29°14.580′ N., 081°00.820′ W.; thence northeast to Point 2 in position 29°14.783′ N., 081°00.101′ W.; thence southeast to Point 3 in position 29°13.646′ N., 080°59.549′ W.; thence southwest to Point 4 in position 29°13.434′ N., 081°00.224′ W.; thence northwest back to origin. These coordinates are based on North American Datum 1983.

(b) Definition. The term “designated representative” means Coast Guard Patrol Commanders, including Coast Guard coxswains, petty officers, and other officers operating Coast Guard vessels, and Federal, state, and local officers designated by or assisting the Captain of the Port (COTP) Jacksonville in the enforcement of the regulated area.

(c) Regulations. (1) All persons and vessels are prohibited from entering, transiting through, anchoring in, or remaining within the regulated area unless authorized by the COTP Jacksonville or a designated representative.

(2) Persons and vessels desiring to enter, transit through, anchor in, or remain within the regulated area may contact the COTP Jacksonville by telephone at 904-714-7557, or a designated representative via VHF-FM radio on channel 16 to request authorization. If authorization is granted, all persons and vessels receiving such authorization must comply with the instructions of the COTP Jacksonville or designated representative.

(3) The Coast Guard will provide notice of the regulated area through Broadcast Notice to Mariners via VHF—FM channel 16 or by on-scene designated representatives.

(d) Enforcement period. This section will be enforced daily 8 a.m. to 5 p.m. from April 22 through April 24, 2016.

Dated: April 12, 2016.
J.F. Dixon,
Captain, U.S. Coast Guard, Captain of the Port Jacksonville.

[FR Doc. 2016-08875 Filed 4-15-16; 8:45 am]

BILLING CODE 9110-04-P